DEPARTMENT OF LABOR

Employment and Training Administration

[TA-W-64,645]

Columbian Chemicals Company Marshall Plant Proctor, WV; Notice of Termination of Investigation

Pursuant to Section 221 of the Trade Act of 1974, as amended, an investigation was initiated on December 11, 2008, in response to a petition filed by the International Chemical Workers Union/United Food and Commercial Workers International Union, Local 888C, on behalf of workers of Columbian Chemicals Company, Marshall Plant, Proctor, West Virginia.

The Department has determined that this petition is a photocopy of petition number TA-W-64,606 that was instituted on December 8, 2008. The Department, on December 29, 2008, issued a certification of eligibility to apply for trade adjustment assistance and alternative trade adjustment assistance, applicable to all workers of the subject firm separated from employment on or after December 8, 2007 through December 29, 2010.

Therefore, further investigation in this petition would serve no purpose, and the investigation is terminated.

Signed at Washington, DC, this 30th day of December 2008.
Linda G. Poole,
Certifying Officer, Division of Trade Adjustment Assistance.

[FR Doc. E9-637 Filed 1-13-09; 8:45 am]

BILLING CODE 4510-FN-P